DEPARTMENT OF HEALTH AND HUMAN SERVICES

Draft Report on Guidelines for Ensuring and Maximizing the Quality, Objectivity, Utility and Integrity of Information Disseminated by HHS Agencies

AGENCY: U.S. Department of Health and Human Services.

ACTION: Notice.

SUMMARY: This notice announces an extension of the period for comment on the U.S. Department of Health and Human Services Draft Agency Guidelines for Ensuring the Quality of Information Disseminated to the Public until June 28, 2002. The HHS Draft Agency Guidelines have been developed pursuant to the government-wide OMB Guidelines for Information Quality published on January 3, 2002. HHS has received a number of requests to extend the comment period for the HHS draft guidelines, which are available at the following HHS website: http://www.hhs.gov/infoquality

DATES: Comments on the HHS draft agency guidelines must be submitted by 5:00 P.M., June 28, 2002. Please allow sufficient time for mailed comments to be received by the deadline in the event of delivery delays.

ADDRESSES: Please submit written comments to Director, Division of Data Policy, Office of the Assistant Secretary for Planning and Evaluation, Attn: Information Quality Comments, U.S. Department of Health and Human Services, Room 440D, Hubert H. Humphrey Building, 200 Independence Avenue SW., Washington, DC 20201. Comments also may be e-mailed to Info.comments@.hhs.gov.

FOR FURTHER INFORMATION CONTACT: James Scanlon, Division of Data Policy, Office of the Assistant Secretary for Planning and Evaluation, U.S. DHHS, Telephone (202) 690-7100.

SUPPLEMENTARY INFORMATION: On January 3, 2002, OMB issued final guidelines to federal agencies that implement Section 515 of the Treasury and General Government Appropriations Act for Fiscal Year 2001 (Public Law 106-554). Section 515 directs OMB to issue government-wide guidelines that provide policy and procedural guidance to federal agencies for ensuring and maximizing the quality, objectivity, utility and integrity of information (including statistical information) disseminated by federal agencies. The OMB guidelines in turn direct each federal agency to issue its own guidelines for ensuring the quality, objectivity, utility and integrity of the information it disseminates to the public, including administrative mechanisms allowing affected persons to seek and obtain, where appropriate, correction of information disseminated by the agency that does not comply with the guidelines.

The OMB Guidelines further direct federal agencies to prepare a draft report, no later than May 1, 2002, providing the agency's information quality guidelines and describing the administrative mechanisms developed by the agency to allow affected persons to seek and obtain appropriate correction of information. The agency also is directed to publish a notice of the availability of this draft report in the Federal Register, and post this report on the agency's website to provide an opportunity for public comment.

HHS Draft Agency Guidelines

In accordance with the requirements of the OMB Guidelines, the HHS draft report on agency guidelines is available for review and comment at the following HHS website: http://www.hhs.gov/infoquality

Comments Invited

Comments on the draft report are invited and must be submitted in writing to the office and email addresses specified in this notice. Because of staff and resource limitations, we cannot respond to individual comments.

Dated: May 31, 2002.
William Raub,
Deputy Assistant Secretary for Planning and Evaluation.

[FR Doc. 02-14442 Filed 6-7-02; 8:45 am]

BILLING CODE 4151-05-M